STATE JUSTICE INSTITUTE

Meeting; Sunshine Act

Date: Friday, May 10, 2002, 9 a.m.—5 p.m.

Place: Allerton Crown Plaza Hotel, Chicago, IL.

Matters to be Considered: Consideration of proposals submitted for Institute funding and internal Institute business.

Portions Open to the Public: Consideration of proposals submitted for Institute funding and internal Institute business other than personnel matters.

Portions Closed to the Public: Discussion of internal personnel matters.

CONTACT PERSON: David Tevelin, Executive Director, State Justice Institute, 1650 King Street, Suite 600, Alexandria, VA 22314, (703) 684-6100.

David I. Tevelin,
Executive Director.

[FR Doc. 02-9556 Filed 4-15-02; 3:57 pm]

BILLING CODE 6820-SC-M